DEPARTMENT OF TRANSPORTATION

Federal Aviation Administration

14 CFR Part 39

[Docket No. FAA-2014-0779; Directorate Identifier 2014-NM-052-AD; Amendment 39-18260; AD 2015-18-02]

RIN 2120-AA64

Airworthiness Directives; Lockheed Martin Corporation/Lockheed Martin Aeronautics Company Airplanes

AGENCY: Federal Aviation Administration (FAA), DOT.

ACTION: Final rule; request for comments.

SUMMARY: We are adopting a new airworthiness directive (AD) for all Lockheed Martin Corporation/Lockheed Martin Aeronautics Company Model 382, 382B, 382E, 382F, and 382G airplanes. This AD requires replacing the center wing box (CWB) and certain outer wings. This AD was prompted by an evaluation by the design approval holder (DAH) indicating that the CWB and outer wings are subject to widespread fatigue damage (WFD). We are issuing this AD to prevent fatigue cracking of the outer wings and the lower surface of the CWB, which could result in reduced structural integrity of the airplane.

DATES: This AD is effective September 17, 2015.

The Director of the Federal Register approved the incorporation by reference of certain publications listed in this AD as of September 17, 2015.

We must receive comments on this AD by October 19, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Lockheed Martin Corporation/Lockheed Martin Aeronautics Company, Airworthiness Office, Dept. 6A0M, Zone 0252, Column P-58, 86 S. Cobb Drive, Marietta, GA 30063; telephone 770-494-5444; fax 770-494-5445; email ams.portal@lmco.com; Internet http://www.lockheedmartin.com/ams/tools/TechPubs.html. You may view this referenced service information at the FAA, Transport Airplane Directorate, 1601 Lind Avenue SW., Renton, WA. For information on the availability of this material at the FAA, call 425-227-1221. It is also available on the Internet at http://www.regulations.gov by searching for and locating Docket No. FAA-2014-0779.

Examining the AD Docket

You may examine the AD docket on the Internet at http://www.regulations.gov by searching for and locating Docket No. FAA-2014-0779; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Carl Gray, Aerospace Engineer, Airframe Branch, ACE-117A, FAA, Atlanta Aircraft Certification Office (ACO), 1701 Columbia Avenue, College Park, GA 30337; phone: 404-474-5554; fax: 404-474-5605; email: Carl.W.Gray@faa.gov.

SUPPLEMENTARY INFORMATION:

Discussion

We issued two notices of proposed rulemaking (NPRMs) to amend 14 CFR part 39 by adding ADs that would apply to all Lockheed Martin Corporation/Lockheed Martin Aeronautics Company Model 382, 382B, 382E, 382F, and 382G airplanes. The NPRMs were prompted by an evaluation by the design approval holder (DAH) indicating that certain structure is subject to widespread fatigue damage (WFD). We proposed the NPRMs to address fatigue cracking that could result in reduced structural integrity of the airplane.

One NPRM (Directorate Identifier 2013-NM-218-AD, Docket No. FAA-2014-0427), published in the Federal Register on July 1, 2014 (79 FR 37248), was prompted by the determination that the CWB is subject to WFD. This NPRM proposed to require repetitive inspections and corrective actions for damage of the lower surface of the center wing box; and replacement of the center wing box, which would terminate the repetitive inspections.

The other NPRM (Directorate Identifier 2014-NM-052-AD, Docket No. FAA-2014-0779) is the subject of this AD. This NPRM, published in the Federal Register on December 1, 2014 (79 FR 71033), was prompted by the determination that the outer wings are subject to WFD. This NPRM proposed to require replacing certain outer wings with new or certain serviceable outer wings.

Actions Since Previous Rulemaking

We have subsequently determined that the proposed compliance time for replacing the CWB and outer wings would not adequately address the unsafe condition. The risk of undetected WFD rises rapidly for certain outer wings that have accumulated 30,000 total flight hours and for CWBs that have accumulated 50,000 total flight hours.

Lockheed, commenting on the NPRMs for Directorate Identifier 2013-NM-218-AD (79 FR 37248, July 1, 2014) and Directorate Identifier 2014-NM-052-AD (79 FR 71033, December 1, 2014), also considered the proposed grace periods (24 months and 30 months, respectively) for replacing the CWBs and outer wings inappropriate in relation to the probable risk of the unsafe condition. Based on its engineering analysis, Lockheed concluded that the most prudent way to ensure fleet safety would be to ground affected Model 382 airplanes until over-threshold CWBs and outer wings are replaced.

Therefore, in light of the urgency of the unsafe condition identified in this AD, we have determined that the unsafe condition associated with both NPRMs—Directorate Identifier 2013-NM-218-AD (79 FR 37248, July 1, 2014) and Directorate Identifier 2014-NM-052-AD (79 FR 71033, December 1, 2014)—necessitates the immediate adoption of this AD. We have revised both AD actions as follows:

• For the AD action related to Directorate Identifier 2013-NM-218-AD (79 FR 37248, July 1, 2014): We are considering issuing the final rule without the requirement to replace the CWB.

• For this AD: We have added a requirement to replace the CWB, with a shorter grace period (for airplanes over the 50,000-flight-hour threshold) than was provided in the NPRM for Directorate Identifier 2013-NM-218-AD (79 FR 38249, July 1, 2014). And, for the outer wing replacement, this AD provides a shorter grace period (for airplanes over the 30,000-flight-hour threshold) than was provided in the NPRM for this AD. This AD therefore requires replacement of both the CWB and outer wings.

Comments on NPRM for Directorate Identifier 2013-NM-218-AD (79 FR 37248, July 1, 2014)

Other commenters had expressed concern about the urgency of the unsafe condition and the compliance times for the CWB replacement proposed in the NPRM for Directorate Identifier 2013-NM-218-AD (79 FR 37248, July 1, 2014). The following presents the comments that are related to the proposed CWB replacement requirement (which has been moved to this final rule) and the FAA's response to those comments.

Requests To Revise Compliance Time for CWB Replacement

Lockheed requested that we remove the grace period from the NPRM (79 FR 37248, July 1, 2014) so that any airplane with a CWB that has accumulated over 50,000 total flight hours would be grounded until the CWB is replaced. Lockheed stated the level of risk rises rapidly beyond 50,000 total flight hours due to increasing probabilities of the presence of undetected WFD.

Lynden Air Cargo (Lynden) suggested a sliding scale of compliance times, based on time accumulated on the CWB, instead of the proposed compliance time, with the highest-risk CWBs to be removed from service earliest.

Safair questioned the two-year grace period in light of the safety concern associated with this final rule. The commenter stated that the compliance time, which appears to allow the DAH time to manufacture new wings, appears to be commercially driven. Safair added that the DAH, which has considered the unsafe condition associated with this AD to be a significant safety risk, has strongly advised operators to ground airplanes with center wings having more than 50,000 total flight hours.

As explained previously under “Actions Since Previous Rulemaking,” we have determined that the proposed compliance time for replacing the CWB would not adequately address the unsafe condition. Therefore, we have shortened the proposed grace period for the CWB replacement, in paragraph (k)(2) of this AD, to 30 days or 50 flight hours (whichever occurs later) for any CWB that has accumulated 50,000 or more total flight hours.

Request To Revise Applicability

Lynden questioned whether the FAA considered the safety risk factor for “restricted category type certificated Model C-130A through H airplanes” and whether those airplanes should be included in the applicability.

We did consider the safety risk factor for Model C-130 airplanes. We issued restricted-category type certificates only for Model C-130A and C-130B airplanes, and these are low-usage airplanes. The wings on Model C-130A airplanes are different from those of other models. In addition, the CWBs have previously been replaced on all Model C-130A airplanes. There are no civil-registered Model C-130B airplanes in service. We have not changed this AD in this regard. However, we might consider further rulemaking for Model C-130 airplanes.

Request To Allow Use of Certain Other Service Information

Lynden requested that we revise the NPRM (79 FR 37248, July 1, 2014), for the CWB replacement requirement, to allow use of Lockheed Service Bulletin 382-57-90, dated November 5, 2010, which is specific to Lynden's fleet. Lynden explained that Lockheed Service Bulletin 382-57-90, dated November 5, 2010, includes all the detailed installation procedures, whereas Lockheed Service Bulletin 382-57-94, dated December 3, 2013, is more generic and could involve additional nonrecurring engineering and possible alternative methods of compliance (AMOCs) for each specific CWB variant to accommodate production changes and individual airplane peculiarities. Lynden explained that those differences have already been addressed in Lockheed Service Bulletin 382-57-90, dated November 5, 2010.

We agree with the commenter's request, for the reasons provided by the commenter. We have included the requested provision in paragraph (l) of this AD.

Request To Revise Cost Estimates

Safair requested that we revise the CWB replacement costs provided in the NPRM for Directorate Identifier 2013-NM-218-AD (79 FR 37248, July 1, 2014). The commenter stated that he was “unable to achieve this level of pricing” from Lockheed, and estimated that the replacement would take 15,000 work-hours, at $8.25 million per airplane.

We do not agree to revise the per-airplane cost estimate. We have received no revised cost information from Lockheed. The cost estimates provided in this final rule are also based on costs provided by operators that have already replaced their CWBs. We have not changed this final rule regarding this issue.

Statement Regarding Impact on Small Entities

Safair questioned the statement in the NPRM (79 FR 37248, July 1, 2014) that the AD “[w]ill not have a significant economic impact, positive or negative, on a substantial number of small entities under the criteria of the Regulatory Flexibility Act.” The commenter stated that the NPRM will have a significant impact on aid and relief efforts in the Third World where the Lockheed Model 382 is a significant contributor to food and aid distribution. This impact on the cost per flight hour will result in less aid delivered.

As specified under the Regulatory Findings section, this AD does have a significant economic impact on small entities, based on the Initial Regulatory Flexibility Analysis included in the NPRM for Directorate Identifier 2014-NM-052-AD (79 FR 71033, December 1, 2014). However, the FAA has not prepared a regulatory flexibility analysis for this AD. In accordance with § 603(a) of the Regulatory Flexibility Act, such analyses are required only for rules for which a notice of proposed rulemaking is required by 5 U.S.C. 553. Because of the urgency of this action, as discussed later in this preamble, we find that notice and comment procedures are not required for this rulemaking.

Request To Allow Replacement With Serviceable CWB

Safair requested that we revise the NPRM (79 FR 37248, July 1, 2014) to allow replacement of the CWB with a serviceable CWB that has accumulated less than 50,000 total flight hours, or that has more than 25,000 flight hours of usage remaining. The commenter noted that operators have acquired pre-owned center wings in anticipation of this NPRM.

We partially agree with the request. The service information for the CWB replacement (Lockheed Service Bulletins 382-57-94, dated December 3, 2013; and 382-57-90, dated November 5, 2010); provides procedures for installing only a CWB that is new. Replacement with anything other than a new CWB would therefore require using a method specific to each airplane and approved by the FAA. Paragraph (j)(1) of this AD specifies replacement with a new CWB using the specified service information, and paragraph (j)(2) of this AD specifies replacement with a serviceable CWB using a method approved by the FAA.

Request To Provide Credit for Previous CWB Replacement

Safair requested that CWBs replaced before the release of Lockheed Service Bulletin 382-57-94, dated December 3, 2013, be excluded from the CWB replacement requirement. Safair stated that Lockheed has replaced CWBs on civil airplanes using alternative processes since the 1970s—before the release of Lockheed Service Bulletin 382-57-94, dated December 3, 2013. Safair explained that the industry supporting the military fleet of Model C-130 airplanes has significant experience and exposure to center wing replacements via other means, and should be credited for the experience and ability to develop sound processes.

We disagree with the request to exclude those airplanes with previously replaced CWBs. Any replacement CWB that reaches 50,000 total flight hours before the airplane reaches its limit of validity (LOV) of 75,000 total flight hours would need to be replaced again. As explained previously, paragraph (j)(2) of this AD allows replacement of the CWB with a serviceable CWB using a method approved by the FAA. This AD is based on the life of the CWB. If it can be shown that the CWB on the airplane has accumulated less than 50,000 total flight hours, then there is no need to replace the CWB until that wing reaches 50,000 total flight hours. We have not changed this final rule regarding this issue.

Additional Change to NPRM for Directorate Identifier 2014-NM-052-AD (79 FR 71033, December 1, 2014)

Paragraph (i) of the NPRM (79 FR 71033, December 1, 2014) provided certain instructions for wings with previous military usage. We have revised this wording in this AD to clarify the instructions for contacting the FAA.

Other Relevant Rulemaking

The information in this section is restated (with minor editorial changes) from the NPRM for Directorate Identifier 2013-NM-218-AD (79 FR 37248, July 1, 2014) regarding the requirement to replace the CWBs. Replacement of the CWBs, as required by this AD, affects the requirements of certain other ADs:

• AD 2011-09-04, Amendment 39-16666 (76 FR 28626, May 18, 2011), requires repetitive inspections for any damage to the lower surface of the CWB, and corrective actions if necessary. AD 2011-09-04 was issued to detect and correct fatigue cracks of the lower surface of the CWB, which could result in the structural failure of the wings.

• AD 2011-15-02, Amendment 39-16749 (76 FR 41647, July 15, 2011), superseded AD 2008-20-01, Amendment 39-15680 (73 FR 56464, September 29, 2008). AD 2011-15-02 requires revising the maintenance program by incorporating new airworthiness limitations for fuel tank systems to satisfy the requirements of Special Federal Aviation Regulation (SFAR) No. 88 (“SFAR 88,” Amendment 21-78, and subsequent Amendments 21-82 (67 FR 57490, September 10, 2002) and 21-83 (67 FR 72830, December 9, 2002)), which is part of a regulation titled “Transport Airplane Fuel Tank System Design Review, Flammability Reduction, and Maintenance and Inspection Requirements” (66 FR 23086, May 7, 2001). AD 2011-15-02 also continues to require accomplishing certain fuel system modifications, initial inspections of certain repetitive fuel system limitations to phase in those inspections, and repair if necessary. AD 2011-15-02 corrects certain part number references, adds an additional inspection area and, for certain airplanes, requires certain actions to be reaccomplished according to revised service information. AD 2011-15-02 was issued to prevent the potential for ignition sources inside fuel tanks caused by latent failures, alterations, repairs, or maintenance actions, which, in combination with flammable fuel vapors, could result in a fuel tank explosion and consequent loss of the airplane.

• AD 2012-06-09, Amendment 39-16990 (77 FR 21404, April 10, 2012), requires revising the maintenance/inspection program to include inspections that will give no less than the required damage tolerance analysis for each principal structural element (PSE), doing repetitive inspections to detect cracks of all PSEs, and repairing cracked structure. We issued AD 2012-06-09 to maintain the continued structural integrity of the fleet.

• AD 2015-05-08, Amendment 39-18118 (80 FR 14805, March 20, 2015), requires repetitive inspections of the upper and lower rainbow fittings on the outer wing to detect cracks propagating from fasteners attaching the fittings to skin panels, and related investigative and corrective actions if necessary; and replacement of the upper and lower rainbow fittings on the outer wing. We issued AD 2015-05-08 to prevent fatigue cracking of the upper and lower rainbow fittings on the outer wing and skin-panel-to-fitting fastener holes, which could result in reduced structural integrity of the airplane and possible separation of the wing from the airplane.

• AD 2015-06-08, Amendment 39-18126 (80 FR 19013, April 9, 2015), requires repetitive eddy current inspections to detect cracks in the center wing upper and lower rainbow fittings, and corrective actions if necessary; and repetitive replacements of rainbow fittings, which would extend the repetitive interval for the next inspection. We issued this AD to detect and correct fatigue cracks, which could grow large and lead to the failure of the fitting and a catastrophic failure of the center wing.

FAA's Determination

We are issuing this AD because we evaluated all the relevant information and determined that the unsafe condition described previously is likely to exist or develop in other products of the same type design.

AD Requirements

This AD requires replacing the CWB and certain outer wings.

FAA's Justification and Determination of the Effective Date

An unsafe condition exists that requires the immediate adoption of this AD. The FAA has found that the risk to the flying public justifies waiving notice and comment prior to adoption of this rule because fatigue cracking of the outer wing and the lower surface of the CWB could result in reduced structural integrity of the airplane. Therefore, we find that notice and opportunity for prior public comment are impracticable and that good cause exists for making this amendment effective in less than 30 days.

Explanation of Compliance Time

The compliance times for the replacements required by this AD for addressing WFD were established to ensure that discrepant structure is replaced before WFD develops in airplanes. Standard inspection techniques cannot be relied on to detect WFD before it becomes a hazard to flight. We will not grant any extensions of the compliance time to complete any AD-mandated service bulletin related to WFD without extensive new data that would substantiate and clearly warrant such an extension.

Comments Invited

This AD is a final rule that involves requirements affecting flight safety and was not preceded by notice and an opportunity for public comment. However, we invite you to send any written data, views, or arguments about this AD. Send your comments to an address listed under the ADDRESSES section. Include the docket number FAA-2014-0779 and Directorate Identifier 2014-NM-052-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Related Service Information Under 1 CFR Part 51

We reviewed the following service information.

• Lockheed Martin Aeronautics Company Service Bulletin 382-57-90, dated November 5, 2010, which describes procedures for replacing the CWB with a new CWB.

• Lockheed Martin Aeronautics Company Service Bulletin 382-57-94, dated December 3, 2013, which also describes procedures for replacing the CWB with a new CWB.

• Lockheed Martin Aeronautics Company Service Bulletin 382-57-96, dated December 16, 2013, which describes procedures for replacing certain outer wings with new or certain serviceable outer wings.

This service information is reasonably available because the interested parties have access to it through their normal course of business or by the means identified in the ADDRESSES section of this AD.

Costs of Compliance

We estimate that this AD affects 20 airplanes of U.S. registry. We estimate the following costs to comply with this AD:

Estimated Costs
Action | Labor cost | Parts cost | Cost per product | Cost on U.S. operators
CWB replacement | 4,800 work-hours × $85 per hour = $408,000 | $5,000,000 | $5,408,000 | $108,160,000
Outer wing replacement | 1,500 work-hours × 85 per hour = 127,500 | 8,000,000 | 8,127,500 | 162,550,000

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-18-02 Lockheed Martin Corporation/Lockheed Martin Aeronautics Company: Amendment 39-18260; Docket No. FAA-2014-0779; Directorate Identifier 2014-NM-052-AD.

(a) Effective Date

This AD is effective September 17, 2015.

(b) Affected ADs

None.

(c) Applicability

This AD applies to all Lockheed Martin Corporation/Lockheed Martin Aeronautics Company Model 382, 382B, 382E, 382F, and 382G airplanes, certificated in any category.

(d) Subject

Air Transport Association (ATA) of America Code 57, Wings.

(e) Unsafe Condition

This AD was prompted by an evaluation by the design approval holder (DAH) indicating that the outer wings and center wing box (CWB) are subject to widespread fatigue damage (WFD). We are issuing this AD to prevent fatigue cracking of the outer wings and the lower surface of the CWB, which could result in reduced structural integrity of the airplane.

(f) Compliance

Comply with this AD within the compliance times specified, unless already done.

(g) Outer Wing Replacement

For airplanes with outer wings having serial numbers (S/Ns) 3946 through 4541 inclusive, or manufacturing end product (MEP) replacement outer wings 14Y series having part numbers (P/Ns) 388021-9/-10: At the later of the times specified in paragraphs (g)(1) and (g)(2) of this AD, except as specified in paragraph (i) of this AD, replace each outer wing with a replacement wing specified in paragraph (h) of this AD, in accordance with the Accomplishment Instructions of Lockheed Service Bulletin 382-57-96, dated December 16, 2013.

(1) Before the outer wing accumulates 30,000 total flight hours.

(2) Within 30 days or 50 flight hours after the effective date of this AD, whichever occurs later.

(h) Acceptable Replacement Outer Wings

(1) Outer wings having S/Ns 3946 through 4541 inclusive, and MEP replacement outer wings 14Y series having P/Ns 388021-9/-10, are acceptable for the outer wing replacement required by paragraph (g) of this AD, provided that the replacement outer wing has accumulated less than 30,000 total flight hours. The replacement outer wing must be replaced before it accumulates 30,000 total flight hours, as required by paragraph (g) of this AD. Lockheed Service Bulletin 382-57-96, dated December 16, 2013, describes an option to salvage certain system components when replacing an outer wing. If salvaged components are used in a replacement wing, an operator may need to comply with the following:

(i) AD 2011-09-04, Amendment 39-16666 (76 FR 28626, May 18, 2011);

(ii) AD 2011-15-02, Amendment 39-16749 (76 FR 41647, July 15, 2011);

(iii) AD 2012-06-09, Amendment 39-16990 (77 FR 21404, April 10, 2012);

(iv) AD 2015-05-08, Amendment 39-18118 (80 FR 14805, March 20, 2015); and

(v) AD 2015-06-08, Amendment 39-18126 (80 FR 19013, April 9, 2015).

(2) Outer wings having S/Ns 4542 and subsequent, and MEP replacement outer wings except for 14Y series having P/Ns 388021-9/-10, that have accumulated less than 75,000 total flight hours, are acceptable for the outer wing replacement required by paragraph (g) of this AD.

(i) Wings With Previous Military Usage

For airplanes that have any outer wing with previous military usage: Within 30 days after the effective date of this AD, contact the Manager, Atlanta Aircraft Certification Office (ACO), FAA, to determine a compliance time for accomplishing the actions required by paragraph (g) of this AD, by using a method approved in accordance with the procedures specified in paragraph (n) of this AD.

(j) CWB Replacement

At the applicable time specified in paragraphs (k)(1) and (k)(2) of this AD: Replace the CWB, as specified in paragraph (j)(1) or (j)(2) of this AD.

(1) Replace the CWB with a new CWB, in accordance with the Accomplishment Instructions of Lockheed Service Bulletin 382-57-94, dated December 3, 2013. Although a note in the Accomplishment Instructions of Lockheed Service Bulletin 382-57-94, dated December 3, 2013, instructs operators to contact Lockheed if any assistance is needed in accomplishing the actions specified in the service information, any deviation from the instructions provided in the service information must be approved in accordance with the procedures specified in paragraph (n) of this AD.

(2) Replace the CWB with a serviceable CWB using a method approved in accordance with the procedures specified in paragraph (n) of this AD.

(k) Compliance Time for CWB Replacement

Replace the CWB at the later of the times specified in paragraphs (k)(1) and (k)(2) of this AD.

(1) Before the CWB accumulates 50,000 total flight hours.

(2) Within 30 days or 50 flight hours after the effective date of this AD, whichever occurs later.

(l) Alternative Service Information for CWB Replacement

For airplanes identified in Lockheed Service Bulletin 382-57-90, dated November 5, 2010: Replacement of the CWB with a new CWB, in accordance with the Accomplishment Instructions of Lockheed Service Bulletin 382-57-90, dated November 5, 2010, is acceptable for compliance with the requirements of paragraph (j) of this AD.

(m) Terminating Action for AD 2011-09-04, Amendment 39-16666 (76 FR 28626, May 18, 2011)

Replacement of the CWB as required by paragraph (j) of this AD terminates the inspections required by AD 2011-09-04, Amendment 39-16666 (76 FR 28626, May 18, 2011), for that CWB.

(n) Alternative Methods of Compliance (AMOCs)

(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (o) of this AD.

(2) Before using any approved AMOC, notify your appropriate principal inspector, or lacking a principal inspector, the manager of the local flight standards district office/certificate holding district office.

(3) As of the effective date of this AD, an AMOC that provides an acceptable level of safety may be used for any repair required by this AD, if it is approved by a Delegated Engineering Representative (DER) for the Lockheed Martin Aeronautics Company who has been authorized by the Manager, Atlanta ACO, to make those findings. For a repair method to be approved, the repair approval must meet the certification basis of the airplane, and the approval must specifically refer to this AD.

(o) Related Information

For more information about this AD, contact Carl Gray, Aerospace Engineer, Airframe Branch, ACE-117A, Atlanta ACO, FAA, 1701 Columbia Avenue, College Park, GA 30337; phone: 404-474-5554; fax: 404-474-5605; email: carl.w.gray@faa.gov.

(p) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Lockheed Martin Aeronautics Company Service Bulletin 382-57-90, dated November 5, 2010.

(ii) Lockheed Martin Aeronautics Company Service Bulletin 382-57-94, dated December 3, 2013.

(iii) Lockheed Martin Aeronautics Company Service Bulletin 382-57-96, dated December 16, 2013.

(3) For service information identified in this AD, contact Lockheed Martin Corporation/Lockheed Martin Aeronautics Company, Airworthiness Office, Dept. 6A0M, Zone 0252, Column P-58, 86 S. Cobb Drive, Marietta, GA 30063; telephone 770-494-5444; fax 770-494-5445; email ams.portal@lmco.com; Internet http://www.lockheedmartin.com/ams/tools/TechPubs.html.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to http://www.archives.gov/federal-register/cfr/ibr-locations.html.

Issued in Renton, Washington, on August 21, 2015.
Kevin Hull,
Acting Manager, Transport Airplane Directorate, Aircraft Certification Service.

[FR Doc. 2015-21465 Filed 9-1-15; 8:45 am]

BILLING CODE 4910-13-P